DEPARTMENT OF STATE

[Public Notice: 9576]

In the Matter of the Designation of ISIL-Saudi Arabia, aka Islamic State of Iraq and the Levant-Saudi Arabia, aka Islamic State and the Levant in Saudi Arabia, aka ISIS in Saudi Arabia, aka Wilayat al-Haramayn, aka Wilayat Najd, aka Najd Province, aka Province of the Two Holy Places, aka Mujahideen of the Arabian Peninsula, aka Hijaz Province of the Islamic State, aka Al-Hijaz Province as a Specially Designated Global Terrorist

Acting under the authority of and in accordance with section 1(b) of Executive Order 13224 of September 23, 2001, as amended by Executive Order 13268 of July 2, 2002, and Executive Order 13284 of January 23, 2003, I hereby determine that the individual known as ISIL-Saudi Arabia, also known as Islamic State of Iraq and the Levant-Saudi Arabia, also known as Islamic State of Iraq and the Levant in Saudi Arabia, also known as ISIS in Saudi Arabia, also known as Wilayat al-Haramayn, also known as Wilayat Najd, also known as Najd Province, also known as Province of the Two Holy Places, also known as Mujahideen of the Arabian Peninsula, also known as Hijaz Province of the Islamic State, also known as Al-Hijaz Province committed, or poses a significant risk of committing, acts of terrorism that threaten the security of U.S. nationals or the national security, foreign policy, or economy of the United States.

Consistent with the determination in section 10 of Executive Order 13224 that “prior notice to persons determined to be subject to the Order who might have a constitutional presence in the United States would render ineffectual the blocking and other measures authorized in the Order because of the ability to transfer funds instantaneously,” I determine that no prior notice needs to be provided to any person subject to this determination who might have a constitutional presence in the United States, because to do so would render ineffectual the measures authorized in the Order.

This notice shall be published in the Federal Register.

John F. Kerry,
Secretary of State.

[FR Doc. 2016-11990 Filed 5-19-16; 8:45 am]

BILLING CODE 4710-AD-P